DEPARTMENT OF ENERGY

Federal Energy Regulatory Commission

Combined Notice of Filings #1

March 5, 2007.

Take notice that the Commission received the following electric rate filings:

Docket Numbers: ER07-484-001.

Applicants: Idaho Power Company.

Description: Idaho Power Co. submits a revised Network Integration Service Agreement, Fourth Revised Service Agreement 155, omitted from the 1/30/07 filing.

Filed Date: 02/28/2007

Accession Number: 20070302-0088.

Comment Date: 5 p.m. Eastern Time on Wednesday, March 21, 2007.

Docket Numbers: ER07-494-001.

Applicants: Southern Company Services.

Description: Alabama Power Co. submits a revised Table of Contents to the Small Generator Interconnection Agreement.

Filed Date: 02/28/2007.

Accession Number: 20070302-0087.

Comment Date: 5 p.m. Eastern Time on Wednesday, March 21, 2007.

Docket Numbers: ER07-574-000.

Applicants: Appalachian Power Company.

Description: Appalachian Power Co. submits a Letter Agreement with American Municipal Power-Ohio, Inc and the Blue Ridge Power Authority.

Filed Date: 02/27/2007.

Accession Number: 20070301-0141.

Comment Date: 5 p.m. Eastern Time on Tuesday, March 20, 2007.

Docket Numbers: ER07-575-000.

Applicants: MidAmerican Energy Company.

Description: MidAmerican Energy Co. submits an amended Network Integration Transmission Service Agreement and an amended Network Operating Agreement with the City of Denver, Iowa.

Filed Date: 02/27/2007.

Accession Number: 20070301-0142.

Comment Date: 5 p.m. Eastern Time on Tuesday, March 20, 2007.

Docket Numbers: ER07-577-000.

Applicants: Midwest Independent Transmission System Operator, Inc.

Description: Midwest Independent Transmission System Operator, Inc submits an unexecuted Facilities Construction Agreement with Endeavor Power Partners, LLC et al.

Filed Date: 02/28/2007.

Accession Number: 20070302-0092.

Comment Date: 5 p.m. Eastern Time on Wednesday, March 21, 2007.

Docket Numbers: ER07-578-000.

Applicants: CinCap VIII, LLC.

Description: CinCap VIII, LLC submits notice of cancellation of First Revised Sheet 1 to FERC Electric Tariff, Original.

Filed Date: 02/28/2007.

Accession Number: 20070302-0086.

Comment Date: 5 p.m. Eastern Time on Wednesday, March 21, 2007.

Docket Numbers: ER07-579-000.

Applicants: Midwest Independent Transmission System Operator, Inc.

Description: Midwest Independent Transmission System Operator, Inc submits an unexecuted amended and restated Generator Interconnection Agreement w/Michigan Electric Transmission Co., LLC etc pursuant Order 614.

Filed Date: 02/28/2007.

Accession Number: 20070302-0089.

Comment Date: 5 p.m. Eastern Time on Wednesday, March 21, 2007.

Docket Numbers: ER07-580-000.

Applicants: Midwest Independent Transmission System Operator, Inc.

Description: Midwest Independent Transmission System Operator, Inc. (MISO) submits an unexecuted Large Generator Interconnection Agreement w/Michigan Electric Transmission Co, LLC and on 3/2/07 MISO filed an errata to this filing.

Filed Date: 02/28/2007; 03/02/07.

Accession Number: 20070302-0091.

Comment Date: 5 p.m. Eastern Time on Monday, March 12, 2007.

Docket Numbers: ER07-581-000.

Applicants: American Electric Power Service Corporation.

Description: AEP Texas North Co submits a fully executed Interconnection Agreement with Buffalo Gap Wind Farm 3, LLC dated 2/20/07.

Filed Date: 03/01/2007.

Accession Number: 20070302-0090.

Comment Date: 5 p.m. Eastern Time on Thursday, March 22, 2007.

Docket Numbers: ER07-582-000.

Applicants: Pacific Gas and Electric Company.

Description: Pacific Gas and Electric Company submits Second Revised Schedule 136, an agreement entitled “Form of Distribution Facilities Agreement—Electric Standby Service etc.

Filed Date: 03/02/2007.

Accession Number: 20070305-0188.

Comment Date: 5 p.m. Eastern Time on Friday, March 23, 2007.

Docket Numbers: ER07-584-000.

Applicants: American Electric Power Service Corporation.

Description: American Electric Power Service Corporation, agent for Indiana Michigan Power Co, submits and requests acceptance of a new Power Quality Agreement with Wabash Valley Power Authority etc.

Filed Date: 02/28/2007.

Accession Number: 20070305-0186.

Comment Date: 5 p.m. Eastern Time on Wednesday, March 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-4331 Filed 3-9-07; 8:45 am]

BILLING CODE 6717-01-P